DEPARTMENT OF DEFENSE

GENERAL SERVICES ADMINISTRATION

NATIONAL AERONAUTICS AND SPACE ADMINISTRATION

[OMB Control No. 9000-0200; Docket No. 2020-0053; Sequence No. 19]

Submission for OMB Review; Protecting Life in Global Health Assistance

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a new information collection requirement regarding documents, records, reports, and processes associated with determining compliance with FAR part 25, Protecting Life in Global Health Assistance.

DATES: Submit comments on or before January 20, 2021.

ADDRESSES: Written comments and recommendations for this information collection should be sent within 30 days of publication of this notice to www.reginfo.gov/public/do/PRAMain. Find this particular information collection by selecting “Currently under Review—Open for Public Comments” or by using the search function.

Additionally submit a copy to GSA through http://www.regulations.gov and follow the instructions on the site. This website provides the ability to type short comments directly into the comment field or attach a file for lengthier comments.

Instructions: All items submitted must cite OMB Control No. 9000-0200, Protecting Life in Global Health Assistance. Comments received generally will be posted without change to http://www.regulations.gov, including any personal and/or business confidential information provided. To confirm receipt of your comment(s), please check www.regulations.gov, approximately two to three days after submission to verify posting. If there are difficulties submitting comments, contact the GSA Regulatory Secretariat Division at 202-501-4755 or GSARegSec@gsa.gov.

FOR FURTHER INFORMATION CONTACT: Email FARPolicy@gsa.gov or call 202-969-4075.

SUPPLEMENTARY INFORMATION:

A. OMB Control Number, Title, and Any Associated Form(s): 9000-0200, Protecting Life in Global Health.

B. Needs and Uses

The Secretary of State approved on May 9, 2017, a plan to implement the manner in which U.S. Government Departments and Agencies will apply the provisions of the “Mexico City Policy,” which was reinstated in the January 23, 2017 Presidential Memorandum, to foreign nongovernmental organizations (NGOs) that receive U.S. funding for global health assistance; this included the extension of the policy to Federal contracts. This clearance covers the information contractors must keep and make available to the Government to comply with the requirements of FAR clause 52.225-XX.

a. 52.225-XX(c)(2)(i) requires foreign prime contractors to allow authorized Government representatives to inspect documents and materials maintained or prepared by the Contractor in the usual course of its operations that describe the health activities implemented by the Contractor.

b. 52.225-XX(j)(1)(ii)(A) requires foreign subcontractors to allow authorized Government representatives to inspect documents and materials maintained or prepared by the subcontractor in the usual course of its operations that describe the health activities of the subcontractor.

c. 52.225-XX(e) requires the Contractor to provide the Contracting Officer a request for consent to subcontract if the contract includes the clause at FAR 52.244-2, Subcontracts.

d. 52.225-XX(g)(2) requires the Contractor to provide the Contracting Officer the results of a subcontractor review when the Government has reason to believe that a foreign subcontractor may have violated the requirements of this clause.

e. 52.225-XX(j)(2) and (j)(3) requires the Contractor to review the foreign subcontractor's health program to determine if a violation has occurred, and to consult with the Contracting Officer prior to terminating the subcontract or determining other corrective action is warranted.

C. Annual Burden

Respondents: 253.

Total Annual Responses: 1,089.

Total Burden Hours: 38,992.

D. Public Comment

A 60-day proposed rule was published within the proposed FAR rule (2018-002, Protecting Life in Global Health) in the Federal Register at 85 FR 56549, on September 14, 2020. Some comments regarding the Paperwork Reduction Burden were received; however, it did not change the estimate of the burden.

Comment: The proposed rule provided an estimate of the public reporting burden for required information collection of nearly 39,000 total response burden hours. Please provide the assumptions and methodology used in calculating this estimate.

Response: Requesters may obtain a copy of the supporting statement from GSA.

Obtaining Copies: Requesters may obtain a copy of the information collection documents from the GSA Regulatory Secretariat Division, by calling 202-501-4755 or emailing GSARegSec@gsa.gov. Please cite OMB Control No. 9000-0200, Protecting Life in Global Health.

William F. Clark,
Director,Office of Governmentwide Acquisition Policy,Office of Acquisition Policy,Office of Governmentwide Policy.

[FR Doc. 2020-28152 Filed 12-18-20; 8:45 am]

BILLING CODE 6820-EP-P